NUCLEAR REGULATORY COMMISSION

[NRC-2021-0068]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from February 5, 2021, to March 4, 2021. The last monthly notice was published on February 23, 2021.

DATES: Comments must be filed by April 22, 2021. A request for a hearing or petitions for leave to intervene must be filed by May 24, 2021.

ADDRESSES: You may submit comments by any of the following method; however, the NRC encourages electronic comment submission through the Federal Rulemaking website:

• Federal Rulemaking Website: Go to https://www.regulations.gov and search for Docket ID NRC-2021-0068. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001, telephone: 301-415-1506, email: Kay.Goldstein@nrc.gov.

SUPPLEMENTARY INFORMATION:

I. Obtaining Information and Submitting Comments

A. Obtaining Information

Please refer to Docket ID NRC-2021-0068, facility name, unit number(s), docket number(s), application date, and subject when contacting the NRC about the availability of information for this action. You may obtain publicly available information related to this action by any of the following methods:

• Federal Rulemaking website: Go to https://www.regulations.gov and search for Docket ID NRC-2021-0068.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2021-0068, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity to Request a Hearing and Petition for Leave to Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call to 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket No(s) | 50-528, 50-529, 50-530.
Application date | January 22, 2021.
ADAMS Accession No | ML21022A408.
Location in Application of NSHC | Pages 81-84 of the Enclosure.
Brief Description of Amendment(s) | The proposed amendments would revise Technical Specification (TS) 5.5.16, “Containment Leakage Rate Testing Program,” to allow the following: change the existing Type A integrated leakage rate test program test interval to 15 years in accordance with Nuclear Energy Institute (NEI) Topical Report NEI 94-01, Revision 3-A, “Industry Guideline for Implementing Performance-Based Option of 10 CFR 50, Appendix J” [“Primary Reactor Containment Leakage Testing for Water-Cooled Power Reactors“], and the limitations and conditions specified in NEI 94-01, Revision 2-A; adopt an extension of the containment isolation valve leakage rate testing (Type C) frequency from the 60 months currently permitted by 10 CFR 50, Appendix J, Option B, to 75 months for Type C leakage rate testing of selected components, in accordance with NEI 94-01, Revision 3-A; adopt the use of American National Standards Institute/American Nuclear Society (ANSI/ANS) 56.8-2002, “Containment System Leakage Testing Requirements“; and adopt a more conservative allowable test interval extension of 9 months, for Type A, Type B and Type C leakage rate tests in accordance with NEI 94-01, Revision 3-A.
Proposed Determination | NSHC.
Name of Attorney for Licensee, Mailing Address | Michael G. Green, Associate General Counsel, Nuclear and Environmental, Pinnacle West Capital Corporation, P.O. Box 52034, MS 7602, Phoenix, AZ 85072-2034
NRC Project Manager, Telephone Number | Siva Lingam, 301-415-1564.
Duke Energy Carolinas, LLC; Catawba Nuclear Station, Units 1 and 2; York County, SC; Duke Energy Carolinas, LLC; McGuire Nuclear Station, Units 1 and 2; Mecklenburg County, NC; Duke Energy Progress, LLC; Shearon Harris Nuclear Power Plant, Unit 1; Wake and Chatham Counties, NC
Docket No(s) | 50-369, 50-370, 50-413, 50-414, 50-400.
Application date | December 3, 2020.
ADAMS Accession No | ML20338A264.
Location in Application of NSHC | Pages 19-21 of the Enclosure.
Brief Description of Amendment(s) | For Catawba Nuclear Station (CNS) and McGuire Nuclear Station, the proposed change would revise Technical Specification (TS) Section 3.3.2, “Engineered Safety Features Actuation System (ESFAS) Instrumentation” specifically Table 3.3.2-1 dealing with the ESFAS interlock, reactor trip function, and for Shearon Harris Nuclear Power Plant the proposed change would also revise the ESFAS interlock, reactor trip function found in TS Table 3.3-3 of Section ¾.3.2, “Engineered Safety Features Actuation System Instrumentation.” This change will thereby identify the enabled functions and the applicable MODES for each enabled function which will remove the turbine trip function of the P-4 interlock in MODE 3 from the existing specifications. Additionally, for CNS only, this change will remove the steam dump function of the P-4 interlock in MODES 1, 2, and 3.
Proposed Determination | NSHC.
Name of Attorney for Licensee, Mailing Address | Kathryn B. Nolan, Deputy General Counsel, Duke Energy Corporation, 550 South Tryon Street (DEC45A), Charlotte, NC 28202; Kathryn B. Nolan, Deputy General Counsel, Duke Energy Corporation, 550 South Tryon Street (DEC45A), Charlotte, NC 28202; Michelle Spak, General Counsel, Duke Energy Corporation, 550 South Tryon St.—DEC45A, Charlotte, NC 28202.
NRC Project Manager, Telephone Number | John Klos, 301-415-5136.
Entergy Operations, Inc.; Waterford Steam Electric Station, Unit 3; St. Charles Parish, LA
Docket No(s) | 50-382.
Application date | December 18, 2020.
ADAMS Accession No | ML20353A433.
Location in Application of NSHC | Pages 20-22 of the Enclosure.
Brief Description of Amendment(s) | The proposed amendment would modify the Waterford Steam Electric Station, Unit 3 licensing basis, by the addition of a license condition, to allow for the implementation of the provisions of 10 CFR 50.69, “Risk-informed categorization and treatment of structures, systems and components for nuclear power reactors.”
Proposed Determination | NSHC.
Name of Attorney for Licensee, Mailing Address | Anna Vinson Jones, Senior Counsel, Entergy Services, Inc.,101 Constitution Avenue, NW, Suite 200 East, Washington, DC 20001.
NRC Project Manager, Telephone Number | Audrey Klett, 301-415-0489.
Exelon FitzPatrick, LLC and Exelon Generation Company, LLC; James A FitzPatrick Nuclear Power Plant; Oswego County, NY
Docket No(s) | 50-333.
Application date | December 11, 2020, as supplemented by letter dated February 18, 2021.
ADAMS Accession No | ML20346A023, ML21049A213.
Location in Application of NSHC | Pages 5-7 of Attachment 1.
Brief Description of Amendment(s) | The proposed amendment would revise the Technical Specification Limiting Condition for Operation 3.5.1, “ECCS [Emergency Core Cooling System]—Operating,” Surveillance Requirement 3.5.1.6 frequency from “Once each startup prior to exceeding 25% RTP [rated thermal power],” as modified by a note stating, “Not required to be performed if performed within the previous 31 days” to 24 months.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Exelon Generation Company, LLC; Clinton Power Station, Unit No. 1; DeWitt County, IL
Docket No(s) | 50-461.
Application date | January 20, 2021.
ADAMS Accession No | ML21020A053.
Location in Application of NSHC | Pages 6-8 of Attachment 1.
Brief Description of Amendment(s) | The proposed amendment would revise the degraded voltage reset and drop-out allowable values that are listed in Technical Specification (TS) 3.3.8.1, “Loss of Power (LOP) Instrumentation,” Table 3.3.8.1-1, “Loss of Power Instrumentation.”
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Holtec Decommissioning International, LLC; Oyster Creek Nuclear Generating Station; Forked River, NJ
Docket No(s) | 50-219.
Application date | February 23, 2021.
ADAMS Accession No | ML21054A321.
Location in Application of NSHC | Enclosure 1 Section 6.3.
Brief Description of Amendment(s) | By letter dated February 23, 2021, Holtec Decommissioning International, LLC (HDI) submitted a license amendment request for review and approval of the Oyster Creek Nuclear Generating Station (OCNGS) Independent Spent Fuel Storage Installation Facility (ISFSI) Only Emergency Plan and its associated Emergency Action Level scheme. The proposed changes are being submitted to the U.S. Nuclear Regulatory Commission (NRC) for approval prior to implementation, as required under Paragraph 50.54(q)(4) of title 10 of the Code of Federal Regulations (10 CFR). Revisions to the OCNGS Emergency Plan and associated Emergency Action level Scheme are proposed to comport with the requirements for a facility configuration with all spent nuclear fuel in dry storage within the ISFSI.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Zahira Cruz Perez, 301-415-3808.
NextEra Energy Duane Arnold, LLC; Duane Arnold Energy Center; Linn County, IA
Docket No(s) | 50-331.
Application date | October 29, 2020, as supplemented by letter dated January 7, 2021.
ADAMS Accession No | ML20311A127, ML21014A380.
Location in Application of NSHC | Pages 1-2 of Attachment 2.
Brief Description of Amendment(s) | By letter dated October 29, 2020, as supplemented by letter dated January 7, 2021, NextEra Energy Duane Arnold, LLC, submitted a license amendment request for Duane Arnold Energy Center (DAEC). The proposed amendment would revise the DAEC Physical Security Plan to align the defensive strategy with the post-shutdown and permanently defueled condition. Portions of the letters dated October 29, 2020, and January 7, 2021, contain safeguards information and have been withheld from public disclosure.
Proposed Determination | NSHC.
Name of Attorney for Licensee, Mailing Address | Steven Hamrick, Managing Attorney—Nuclear, Florida Power & Light Company, P.O. Box 14000, Juno Beach, FL 33408-0420.
NRC Project Manager, Telephone Number | Marlayna Doell, 301-415-3178.
PSEG Nuclear LLC; Salem Nuclear Generating Station, Unit Nos. 1 and 2; Salem County, NJ
Docket No(s) | 50-272, 50-311.
Application date | February 16, 2021.
ADAMS Accession No | ML21047A238.
Location in Application of NSHC | Pages 2-3 of the Enclosure.
Brief Description of Amendment(s) | The proposed amendment would adopt Technical Specifications Task Force (TSTF) Traveler TSTF-569, “Revise Response Time Testing Definition,” to revise the technical specification definitions for the engineered safety feature response time and reactor trip system response time.
Proposed Determination | NSHC.
Name of Attorney for Licensee, Mailing Address | Steven Fleischer, PSEG Services Corporation, 80 Park Plaza, T-5, Newark, NJ 07102.
NRC Project Manager, Telephone Number | James Kim, 301-415-4125.
TMI-2 Solutions, LLC; Three Mile Island Unit 2; Londonderry Township, Dauphin County, PA
Docket No(s) | 50-320.
Application date | February 19, 2021.
ADAMS Accession No | ML21057A046.
Location in Application of NSHC | Pages 65-75 of Attachment 1.
Brief Description of Amendment(s) | This proposed license amendment would revise the possession-only license and technical specifications to support the transition of TMI [Three Mile Island]- from a Post-Defueling Monitored Storage condition to that of a facility undergoing radiological decommissioning.
Proposed Determination | NSHC.
Name of Attorney for Licensee, Mailing Address | Russ Workman, General Counsel, EnergySolutions, 299 South Main Street, Suite 1700, Salt Lake City, UT 84111.
NRC Project Manager, Telephone Number | Ted Smith, 301-415-6721.
Virginia Electric and Power Company, Dominion Nuclear Company; North Anna Power Station, Units 1 and 2; Louisa County, VA
Docket No(s) | 50-338, 50-339.
Application date | January 7, 2021.
ADAMS Accession No | ML21007A264.
Location in Application of NSHC | Pages 6-10 of Attachment 1.
Brief Description of Amendment(s) | The request would amend the requirements of TS 2.1.1.2 to reflect the peak fuel centerline melt temperature specified in Topical Report WCAP-17642-P-A, Revision 1, “Westinghouse Performance Analysis and Design Model (PAD5).”
Proposed Determination | NSHC.
Name of Attorney for Licensee, Mailing Address | Lillian M. Cuoco, Esq., Senior Counsel, Dominion Energy, Inc., 120 Tredegar Street, RS-2, Richmond, VA 23219.
NRC Project Manager, Telephone Number | G. Ed Miller, 301-415-2481.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below.

The safety evaluation will provide the ADAMS accession numbers for the application for amendment and the Federal Register citation for any environmental assessment. All of these items can be accessed as described in the “Obtaining Information and Submitting Comments” section of this document.

License Amendment Issuance(s)
Arizona Public Service Company, et al; Palo Verde Nuclear Generating Station, Units 1, 2, and 3; Maricopa County, AZ
Docket No(s) | 50-528, 50-529, 50-530.
Amendment Date | February 8, 2021.
ADAMS Accession No | ML20350B803.
Amendment No(s) | 214 (Unit 1), 214 (Unit 2), and 214 (Unit 3).
Brief Description of Amendment(s) | The amendments revised the Palo Verde Nuclear Generating Station, Units 1, 2, and 3 Technical Specifications (TSs) to make necessary administrative changes. Specifically, the amendments made the following five administrative changes to the TSs that removed no longer applicable information, extraneous information, and adopted standard industry terminology: (1) TS 3.1.5, “Control Element Assembly (CEA) Alignment,” Surveillance Requirement 3.1.5.3, removed a one-time use Note for Unit 2 CEA No. 88; (2) TS 3.7.17, “Spent Fuel Assembly Storage,” TS 4.3, “Fuel Storage,” and TS 5.5.21, “Spent Fuel Storage Rack Neutron Absorber Monitoring Program,” removed no longer applicable pages related to the implementation of Amendment No. 203, which addressed a revised spent fuel pool criticality analysis; (3) TS 4.1, “Site Location,” removed extraneous information from the site location description; (4) TS 5.5.2, “Primary Coolant Sources Outside Containment,” removed a remaining post-accident sampling subsystem reference; (5) TS 5.7, “High Radiation Area,” modified radiation protection terminology to match industry standards.
Public Comments Received as to Proposed NSHC (Yes/No) | No.
Dominion Energy Nuclear Connecticut, Inc.; Millstone Power Station, Unit No. 2; New London County, CT
Docket No(s) | 50-336.
Amendment Date | February 23, 2021.
ADAMS Accession No | ML21026A142.
Amendment No(s) | 342 (Unit 2).
Brief Description of Amendment(s) | The amendment revised the Millstone Power Station, Unit No. 2 Technical Specification (TS) Table 3.3 11, “Accident Monitoring Instrumentation,” ACTION 3, to add an alternate method for determining if there is loss of coolant through a power-operated relief valve or pressurizer safety valve flow path when any of the three valve position indications (i.e., Instruments 4, 5, and 6) become inoperable. The amendment also included two grammatical corrections in TS Table 3.3 11 ACTIONS 4.a and 4.b for Instrument 7, Containment Pressure (Wide Range) and Instrument 9, Containment Water Level (Wide Range).
Public Comments Received as to Proposed NSHC (Yes/No) | No.
DTE Electric Company; Fermi, Unit 2; Monroe County, MI
Docket No(s) | 50-341.
Amendment Date | February 24, 2021.
ADAMS Accession No | ML20358A155.
Amendment No(s) | 218.
Brief Description of Amendment(s) | The amendment revised the Fermi 2 technical specifications (TS) to support a 24-month fuel cycle in accordance with the guidance of Generic Letter 91-04. TS 5.5.15, “Surveillance Frequency Control Program,” item b, was revised to add the following insert: “The one-time 24 Month Fuel Cycle related Surveillance Requirement Frequency changes approved by the NRC in License Amendment 208 are not subject to this provision. Subsequent changes are subject to the Surveillance Frequency Control Program.” Additionally, TS 5.5.7, “Ventilation Filter Testing Program,” and TS 5.5.14, “Control Room Envelope Habitability Program,” were revised to increase the test frequency from 18 months to 24 months.
Public Comments Received as to Proposed NSHC (Yes/No) | No.
Energy Harbor Nuclear Corp. and Energy Harbor Nuclear Generation LLC; Beaver Valley Power Station, Units 1 and 2; Beaver County, PA
Docket No(s) | 50-334, 50-412
Amendment Date | February 18, 2021.
ADAMS Accession No | ML20335A052.
Amendment No(s) | 308 (Unit 1) and 198 (Unit 2).
Brief Description of Amendment(s) | The amendments revised Technical Specification (TS) 1.1, “Definitions,” and TS 5.0, “Administrative Controls.” The changes modify the definitions and administrative controls TSs to a set of permanently defueled TSs when they become applicable.
Public Comments Received as to Proposed NSHC (Yes/No) | No.
Energy Harbor Nuclear Corp. and Energy Harbor Nuclear Generation LLC; Perry Nuclear Power Plant, Unit 1; Lake County, OH
Docket No(s) | 50-440.
Amendment Date | March 1, 2021.
ADAMS Accession No | ML21035A170.
Amendment No(s) | 192.
Brief Description of Amendment(s) | The amendment adopted Technical Specifications Task Force (TSTF) Traveler TSTF-582, “RPV [Reactor Pressure Vessel] WIC [Water Inventory Control] Enhancements.” The technical specifications related to RPV WIC are revised to incorporate operating experience and to correct errors and omissions in TSTF-542, Revision 2, “Reactor Pressure Vessel Water Inventory Control.”
Public Comments Received as to Proposed NSHC (Yes/No) | No.
Energy Northwest; Columbia Generating Station; Benton County, WA
Docket No(s) | 50-397.
Amendment Date | March 3, 2021.
ADAMS Accession No | ML21053A316.
Amendment No(s) | 264.
Brief Description of Amendment(s) | The amendment modified the Columbia Technical Specifications (TSs) related to reactor pressure vessel (RPV) water inventory control (WIC) based on Technical Specifications Task Force (TSTF) Traveler TSTF 582, Revision 0, “RPV WIC Enhancements,” which was approved by the NRC on August 13, 2020, for adoption into the Columbia TSs.
Public Comments Received as to Proposed NSHC (Yes/No) | No.
Entergy Operations, Inc., System Energy Resources, Inc., Cooperative Energy, A Mississippi Electric Cooperative, and Entergy Mississippi, LLC; Grand Gulf Nuclear Station, Unit 1; Claiborne County, MS
Docket No(s) | 50-416.
Amendment Date | February 24, 2021.
ADAMS Accession No | ML21019A219.
Amendment No(s) | 227.
Brief Description of Amendment(s) | The amendment revised Technical Specification (TS) 5.5.12, “10 CFR 50, Appendix J, Testing Program,” to allow for the permanent extension of the Type A integrated leak rate testing. The amendment made administrative changes to TS 5.5.12 to delete the already performed Type A test. In addition, the amendment revised SRs 3.6.1.1.1 and 3.6.1.2.1, and TS 5.5.12 to align with NUREG-1434, Volume 1, Revision 4, “Standard Technical Specifications General Electric BWR/6 Plants.”
Public Comments Received as to Proposed NSHC (Yes/No) | No.
Entergy Operations, Inc.; Arkansas Nuclear One, Unit 2; Pope County, AR
Docket No(s) | 50-368.
Amendment Date | February 8, 2021.
ADAMS Accession No | ML20351A153.
Amendment No(s) | 323 (Unit 2).
Brief Description of Amendment(s) | The amendment revised several Arkansas Nuclear One, Unit 2 (ANO-2) technical specification (TS) requirements by the addition, deletion, or relocation of certain TS limiting conditions for operation, actions, and surveillance requirements. Relocated TSs were placed in the ANO-2 Technical Requirements Manual or the associated TS Bases.
Public Comments Received as to Proposed NSHC (Yes/No) | No.
Exelon Generation Company, LLC; Limerick Generating Station, Units 1 and 2; Montgomery County, PA
Docket No(s) | 50-352, 50-353.
Amendment Date | February 22, 2021.
ADAMS Accession No | ML21032A270.
Amendment No(s) | 252 (Unit 1) and 214 (Unit 2).
Brief Description of Amendment(s) | The amendments revised the technical specifications related to reactor pressure vessel (RPV) water inventory control (WIC) based on Technical Specifications Task Force (TSTF) Traveler TSTF-582, Revision 0, “RPV WIC Enhancements,” and the associated NRC staff safety evaluation of TSTF-582.
Public Comments Received as to Proposed NSHC (Yes/No) | No.
Florida Power & Light Company, et al.; St. Lucie Plant, Unit No. 2; St. Lucie County, FL
Docket No(s) | 50-389.
Amendment Date | February 26, 2021.
ADAMS Accession No | ML21022A219.
Amendment No(s) | 206 (Unit 2).
Brief Description of Amendment(s) | The amendment modified the St. Lucie Plant, Unit No. 2, technical specifications to update the reactor coolant system pressure and temperature limits and revise the low-temperature overpressure protection system settings.
Public Comments Received as to Proposed NSHC (Yes/No) | No.
Florida Power & Light Company; Turkey Point Nuclear Generating Unit Nos. 3. and 4; Miami-Dade County, FL
Docket No(s) | 50-250, 50-251.
Amendment Date | February 26, 2021.
ADAMS Accession No | ML21032A020.
Amendment No(s) | 295 (Unit 3) and 268 (Unit 4).
Brief Description of Amendment(s) | The amendments modified Section 6.8.4.h, “Containment Leakage Rate Testing Program,” of the Turkey Point, Units 3 and 4 technical specifications to support the extension of the frequency of the Type A Integrated Leak Rate Test from 10 to 15 years and allow the extension of the containment isolation valves leakage test intervals (i.e., Type C tests) from their current 60-month frequency to 75 months.
Public Comments Received as to Proposed NSHC (Yes/No) | No.
Indiana Michigan Power Company; Donald C. Cook Nuclear Plant, Unit 2; Berrien County, MI
Docket No(s) | 50-316.
Amendment Date | March 3, 2021.
ADAMS Accession No | ML21041A086.
Amendment No(s) | 338 (Unit 2).
Brief Description of Amendment(s) | The amendment revised Technical Specification 5.5.7, “Steam Generator (SG) Program,” to allow a one-time deferral of the SG tube inspections from the spring of 2021 to the fall of 2022 refueling outage.
Public Comments Received as to Proposed NSHC (Yes/No) | No.
Indiana Michigan Power Company; Donald C. Cook Nuclear Plant, Units 1 and 2; Berrien County, MI
Docket No(s) | 50-315, 50-316.
Amendment Date | February 2, 2021.
ADAMS Accession No | ML21006A458.
Amendment No(s) | 358 (Unit 1) and 337 (Unit 2).
Brief Description of Amendment(s) | The amendments revised certain technical specification surveillance requirements (SRs) to add exceptions that consider the SR to be met when automatic valves or dampers are locked, sealed, or otherwise secured in the actuated position. The revisions are consistent with Technical Specifications Task Force (TSTF) Traveler TSTF-541, Revision 2, “Add Exceptions to Surveillance Requirements for Valves and Dampers Locked in the Actuated Position.”
Public Comments Received as to Proposed NSHC (Yes/No) | No.
NextEra Energy Seabrook, LLC; Seabrook Station, Unit No. 1; Rockingham County, NH
Docket No(s) | 50-443.
Amendment Date | February 25, 2021.
ADAMS Accession No | ML21008A014.
Amendment No(s) | 168.
Brief Description of Amendment(s) | The amendment revised Technical Specification Table 3.3-4 to decrease the trip setpoint and allowable value for the 4.16 kilovolt Bus E5 and Bus E6 degraded voltage time delay relays.
Public Comments Received as to Proposed NSHC (Yes/No) | No.
Northern States Power Company—Minnesota; Prairie Island Nuclear Generating Plant, Unit Nos. 1 and 2; Goodhue County, MN
Docket No(s) | 50-282, 50-306.
Amendment Date | February 5, 2021.
ADAMS Accession No | ML20356A002.
Amendment No(s) | 234 (Unit 1) and 222 (Unit 2).
Brief Description of Amendment(s) | The amendments modified technical specification requirements to address issues identified in Westinghouse Nuclear Safety Advisory Letter (NSAL) NSAL-09-05, Revision 1, “Relaxed Axial Offset Control FQ Technical Specification Actions,” and NSAL-15-1, “Heat Flux Hot Channel Factor Technical Specification Surveillance.”
Public Comments Received as to Proposed NSHC (Yes/No) | No.
PSEG Nuclear LLC; Salem Nuclear Generating Station, Unit Nos. 1 and 2; Salem County, NJ
Docket No(s) | 50-272, 50-311.
Amendment Date | February 23, 2021.
ADAMS Accession No | ML20338A038.
Amendment No(s) | 336 (Unit 1) and 317 (Unit 2).
Brief Description of Amendment(s) | The amendments made changes to the Salem Updated Final Safety Analysis Report to use the leak-before-break methodology to eliminate the dynamic effects of postulated pipe ruptures in specific portions of systems attached to the reactor coolant system.
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | February 18, 2021.
ADAMS Accession No | ML20342A237.
Amendment No(s) | 279 (Unit 1) and 261 (Unit 2).
Brief Description of Amendment(s) | The amendments revised the technical specifications related to reactor pressure vessel (RPV) water inventory control (WIC) based on Technical Specifications Task Force (TSTF) Traveler TSTF-582, Revision 0, “RPV WIC Enhancements.”
Public Comments Received as to Proposed NSHC (Yes/No) | No.
Tennessee Valley Authority; Sequoyah Nuclear Plant, Units 1 and 2; Hamilton County, TN
Docket No(s) | 50-327, 50-328.
Amendment Date | March 3, 2021.
ADAMS Accession No | ML21021A349.
Amendment No(s) | 354 (Unit 1) and 347 (Unit 2).
Brief Description of Amendment(s) | The amendments revised each unit's Technical Specification 4.2.2, “Control Rod Assemblies,” to permit the Sequoyah Nuclear Plant, Unit 1 Cycle 25 (U1C25) and Sequoyah Nuclear Plant, Unit 2 Cycle 25 (U2C25) cores to contain 52 full length control rods with no full length control rod assembly in core location H-08.
Public Comments Received as to Proposed NSHC (Yes/No) | No.
Tennessee Valley Authority; Watts Bar Nuclear Plant, Unit 2; Rhea County, TN
Docket No(s) | 50-391.
Amendment Date | February 9, 2021.
ADAMS Accession No | ML21027A167.
Amendment No(s) | 48 (Unit 2).
Brief Description of Amendment(s) | The amendment revised the Watts Bar Nuclear Plant Updated Final Safety Analysis Report to apply alternate eddy current probability of detection values to indications of axial outer diameter stress corrosion cracking at tube support plates in the Watts Bar, Unit 2, steam generators for the beginning of cycle voltage distribution in support of the Watts Bar, Unit 2, operational assessment.
Public Comments Received as to Proposed NSHC (Yes/No) | No
Tennessee Valley Authority; Watts Bar Nuclear Plant, Units 1 and 2; Rhea County, TN
Docket No(s) | 50-390, 50-391.
Amendment Date | February 11, 2021.
ADAMS Accession No | ML20232C622.
Amendment No(s) | 142 (Unit 1), 49 (Unit 2).
Brief Description of Amendment(s) | The amendments revised the Watts Bar Nuclear Plant technical specifications, as necessary, to implement new surveillance methods for the heat flux hot channel factor and deleted the Watts Bar Nuclear Plant, Unit 2, Facility Operating License Condition 2.C.10 because it was no longer necessary.
Public Comments Received as to Proposed NSHC (Yes/No) | No.
Vistra Operations Company LLC; Comanche Peak Nuclear Power Plant, Unit Nos. 1 and 2; Somervell County, TX
Docket No(s) | 50-445, 50-446.
Amendment Date | February 12, 2021.
ADAMS Accession No | ML21015A212.
Amendment No(s) | 178 (Unit 1) and 178 (Unit 2).
Brief Description of Amendment(s) | The amendments revised Technical Specification (TS) 3.7.8, “Station Service Water System (SSWS),” and TS 3.8.1, “AC [Alternating Current] Sources—Operating,” to extend the completion times for one SSWS train inoperable and for one diesel generator inoperable from 72 hours to 8 days on a one-time basis to allow for the replacement of Comanche Peak Nuclear Power Plant, Unit No. 2 SSWS Pump 2-02 (Train B) during Unit No. 2 Cycle 19. The revised TSs incorporate by reference a regulatory commitment that identifies compensatory measures to be implemented during the extended completion times.
Public Comments Received as to Proposed NSHC (Yes/No) | No.

IV. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Energy Harbor Nuclear Corp. and Energy Harbor Nuclear Generation LLC; Beaver Valley Power Station, Unit 1; Beaver County, PA
Docket No(s) | 50-334.
Application Date | January 27, 2021.
ADAMS Accession No | ML21027A228.
Brief Description of Amendment(s) | The proposed amendment would revise Technical Specification (TS) 5.5.5.1, “Unit 1 SG [Steam Generator] Program,” paragraph d.2 to defer the spring of 2021 refueling outage (1R27) steam generator inspections to the fall of 2022 refueling outage (1R28).
Date & Cite of Federal Register Individual Notice | February 11, 2021 (86 FR 9087).
Expiration Dates for Public Comments & Hearing Requests | March 15, 2021 (Public Comments); April 12, 2021 (Hearing Requests).

Dated: March 9, 2021.
For the Nuclear Regulatory Commission.
Caroline L. Carusone,
Deputy Director, Division of Operating Reactor Licensing, Office of Nuclear Reactor Regulation.

[FR Doc. 2021-05248 Filed 3-22-21; 8:45 am]

BILLING CODE 7590-01-P